COUNCIL ON ENVIRONMENTAL QUALITY

National Environmental Policy Act Task Force

AGENCY: Council on Environmental Quality.

ACTION: Notice and request for comments.

SUMMARY: The Council on Environmental Quality (CEQ) has formed a National Environmental Policy Act (NEPA) task force (Task Force) composed of representatives from a variety of Federal agencies. The purpose of the NEPA Task Force is to seek ways to improve and modernize NEPA analyses and documentation and to foster improved coordination among all levels of government and the public. Federal agencies' planning and decision-making processes (analyses conducted and documents produced) using NEPA can obtain higher levels of efficiency, clarity and ease of management through the improved use of existing authorities; better information management; improved interagency and intergovernmental collaboration; and the use of new technologies. CEQ invites comments on the proposed nature and scope of NEPA Task Force activities identified in this notice and solicits examples of effective NEPA implementation practices to develop a publication of case studies including examples of best practices.

DATES: Written comments should be submitted on or before August 23, 2002.

ADDRESSES: Electronic or facsimile comments are preferred because federal offices experience intermittent mail delays from security screening. Electronic written comments can be sent to the NEPA Task Force through the NEPA Task Force link on the CEQ web site at http://www.whitehouse.gov/ceq. Written comments may be faxed to the NEPA Task Force at (801) 517-1021. Written comments may also be submitted to the NEPA Task Force, P.O. Box 221150, Salt Lake City, UT 84122. Public comments received by the NEPA Task Force will be available via the NEPA Task Force link on the CEQ web site at http://www.whitehouse.gov/ceq. after the close of the comment period.

FOR FURTHER INFORMATION CONTACT: Rhey Solomon at (202) 456-5432.

SUPPLEMENTARY INFORMATION: On May 20, 2002, CEQ established a NEPA Task Force to review the current NEPA implementing practices and procedures in the following areas: Technology and information management; interagency and intergovernmental collaboration including joint-lead processes; programmatic analyses and subsequent tiered documents; and adaptive management. In addition, the NEPA Task Force will look at other NEPA implementation issues such as the level of detail included in agencies' procedures and documentation for promulgating categorical exclusions; the structure and documentation of environmental assessments; and implementation practices that would benefit other agencies. CEQ envisions the information gained and disseminated by the NEPA Task Force will help federal agencies update their practices and procedures and better integrate NEPA into federal agency decision making. At the end of six months, the NEPA Task Force will prepare a publication highlighting case studies and any best practices that prove worthy of broad dissemination. Additionally, the NEPA Task Force will make recommendations to CEQ regarding potential guidance and potential regulatory changes based upon the information collected. Any regulatory changes would require public notice and comment and be published in the Federal Register.

To further the work of the NEPA Task Force, CEQ requests public input on certain aspects of Federal agencies' implementation of the National Environmental Policy Act. To make the best use of comments and further refine the initial topic areas on which the Task Force will focus, please respond to the following questions to help the NEPA Task Force identify current best practices and specific opportunities to enhance the NEPA process. If you are submitting a proposed case study or best practice, please provide a short description of the case or practice and how it responded to the relevant questions below. If you are sending attachments or supporting documents with your comment, please send a hard copy of the documents or an e-mail with them directly attached to ensure delivery and receipt. While URL and web-site links are helpful, please provide the information in your comment and do not rely on URL and web-site links alone. To facilitate managing the comments, please identify the question number(s) to which you are responding in study areas A through F below.

A. Technology, Information Management, and Information Security: The NEPA Task Force will explore opportunities for utilizing information management technologies to enhance the effectiveness and efficiency of the NEPA process. Specific examples of innovative technical approaches to the assessment and communication of potential environmental impacts are sought. Examples include use of geographic information system (GIS) software, document creation and comment management systems. The handling of sensitive infrastructure and operational information will be reviewed. The Task Force seeks your input on this topic and requests responses to the following questions.

1. Where do you find data and background studies to either prepare NEPA analyses or to provide input or to review and prepare comments on NEPA analyses? The information may include scientific and statistical information in printed or electronic form. Examples include but are not limited to species or wetlands inventories, air quality data, field surveys, predictive models, and trend analyses.

2. What are the barriers or challenges faced in using information technologies in the NEPA process? What factors should be considered in assessing and validating the quality of the information?

3. Do you maintain databases and other sources of environmental information for environmental analyses? Are these information sources standing or project specific? Please describe any protocols or standardization efforts that you feel should be utilized in the development and maintenance of these systems.

4. What information management and retrieval tools do you use to access, query, and manipulate data when preparing analyses or reviewing analyses? What are the key functions and characteristics of these systems?

5. What are your preferred methods of conveying or receiving information about proposed actions and NEPA analyses and for receiving NEPA documents (e.g., paper, CD-ROM, web-site, public meeting, radio, television)? Explain the basis for your preferences.

6. What information management technologies have been particularly effective in communicating with stakeholders about environmental issues and incorporating environmental values into agency planning and decision making (e.g., web sites to gather public input or inform the public about a proposed action or technological tools to manage public comments)? What objections or concerns have been raised concerning the use of tools (e.g., concerns about broad public access)?

7. What factors should be considered in balancing public involvement and information security?

B. Federal and Inter-governmental Collaboration: The NEPA Task Force will identify current best practices with regard to collaboration among Federal agencies and on an inter-governmental basis with Tribal, State and local governing entities in developing environmental analyses and participating in the NEPA process. The Task Force seeks your input on this topic and requests responses to the following questions (when answering the following questions, please indicate your role and experiences with NEPA).

1. What are the characteristics of an effective joint-lead or cooperating agency relationship/process? Provide example(s) and describe the issues resolved and benefits gained, as well as unresolved issues and obstacles. Such examples may include, but are not limited to, differences in agencies' policies, funding limitations, and public perceptions.

2. What barriers or challenges preclude or hinder the ability to enter into effective collaborative agreements that establish joint-lead or cooperating agency status?

3. What specific areas should be emphasized during training to facilitate joint-lead and cooperating agency status?

C. Programmatic Analysis and Tiering: Opportunities to facilitate timely planning and decision-making to reduce or eliminate redundant and duplicative analyses through the use of programmatic and tiered analyses will be explored. To date, Federal agencies have used programmatic analyses to address a range of issues from facility and land use planning to broad categories of actions, or to sequencing or staging actions. All of these analyses may have subsequent tiered analyses. The Task Force seeks your input on this topic and requests responses to the following questions.

1. What types of issues best lend themselves to programmatic review, and how can they best be addressed in a programmatic analysis to avoid duplication in subsequent tiered analysis? Please provide examples with brief descriptions of the nature of the action or program, decisions made, factors used to evaluate the appropriate depth of the analyses, and the efficiencies realized by the analysis or in subsequent tiers.

2. Please provide examples of how programmatic analyses have been used to develop, maintain and strengthen environmental management systems, and examples of how an existing environmental management system can facilitate and strengthen NEPA analyses. Examples of an environmental management system may include but are not limited to systems certified under ISO 14001 (further information on ISO 14001 can be found on the Web at http://es.epa.gov/partners/iso/iso.html).

D. Adaptive Management/Monitoring and Evaluation Plans: The CEQ report, “The National Environmental Policy Act: A study of Its Effectiveness After Twenty-five Years”, recognized that by incorporating adaptive management into their NEPA analyses, agencies can move beyond simple compliance and better target environmental improvement. An adaptive environmental management approach can respond to uncertainty and the limits of knowledge and experience in making decisions. Such an approach allows for approval of an action with uncertain outcomes by establishing performance-based environmental parameters or outcomes and monitoring to ensure that they are achieved. When those parameters or outcomes are not met, corrective changes would be triggered, for instance to ensure that significant environmental degradation does not occur. The Task Force seeks your input on this topic and requests responses to the following questions.

1. What factors are considered when deciding to use an adaptive management approach?

2. How can environmental impact analyses be structured to consider adaptive management?

3. What aspects of adaptive management may, or may not, require subsequent NEPA analyses?

4. What factors should be considered (e.g., cost, timing, staffing needs, environmental risks) when determining what monitoring techniques and levels of monitoring intensity are appropriate during the implementation of an adaptive management regime? How does this differ from current monitoring activities?

E. Categorical Exclusions: Agencies can identify categories of actions that do not individually or cumulatively have a significant effect on the human environment and which, therefore, do not require preparation of an Environmental Assessment or an Environmental Impact Statement. The NEPA Task Force will consider the bases and process for establishing categorical exclusions. The Task Force seeks your input on this topic and requests responses to the following questions.

1. What information, data studies, etc., should be required as the basis for establishing a categorical exclusion?

2. What points of comparison could an agency use when reviewing another agency's use of a similar categorical exclusion in order to establish a new categorical exclusion?

3. Are improvements needed in the process that agencies use to establish a new categorical exclusion? If so, please describe them.

F. Additional Areas for Consideration: In addition to the topics described above, the NEPA Task Force will consider comments on NEPA practices that would improve and modernize NEPA implementation.

For example, the NEPA Task Force requests public comment on the appropriate utility of and structure of format for environmental assessment documents.

The Nepa Task Force will use the information and comments it receives to identify, evaluate, and make recommendations on improving NEPA implementation and to prepare case studies that include examples of best practices.

Public comments are requested by August 23, 2002.

Dated: July 2, 2002.
James L. Connaughton,
Chairman, Council on Environmental Quality.

[FR Doc. 02-17082 Filed 7-8-02; 8:45 am]

BILLING CODE 3125-01-M